DEPARTMENT OF TRANSPORTATION

Federal Aviation Administration

RTCA Special Committee 202: Portable Electronic Devices

AGENCY: Federal Aviation Administration (FAA), DOT.

ACTION: Notice of RTCA Special Committee 202 Meeting: Portable Electronic Devices.

SUMMARY: The FAA is issuing this notice to advise the public of a meeting of RTCA Special Committee 202: Portable Electronic Devices.

DATES: The meeting will be held on April 3-7, 2006, from 9 a.m. to 4:30 p.m.

ADDRESSES: The meeting will be held at Conference Rooms, 1828 L Street, NW., Suite 805, Washington, DC.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 202 Portable Electronic Devices meeting. The agenda will include:

• April 3:

• Co-chairs' Strategy Sessions with Working Group Leaders

• Working Group Progress and Status Update/Plan for Terms of Reference (TOR) Compliance Review

• Overall Review of Plan and Schedule for Phase 2

• Plan for Recommendation on Scoping of Picocell Assessment and Guidelines

• WG1, WG2, and WG3 to develop recommendations to SC-202 plenary on Mask-Like Object, recommendations to FCC on emissions, and susceptibility limits required from the aircraft systems side

• Working Group Coordination

• Time for all Working Groups to meet together if required

• Working Groups (WG) 1 through 5 meet.

• WG-1, PED Characterization, Garmin Room

• WG-2, Aircraft Path Loss and Test, with WG-3, Aircraft Susceptibility, MacIntosh-NBAA-Hilton/ATA Room

• WG-4, Risk Assessment, Mitigation, and process, Colson Board Room

• WG-5, airplane Design and Certification Guidance, ARINC Conference Room

• Chairmen's Strategy session with Working Group Leaders

• Coordinate Recommendations to Plenary: Phase 2 work plan, TOR compliance verification, and schedule

• April 4:

• Opening Plenary Session (Welcome and Introductory Remarks, Review Agenda, Review/Approve previous Common Plenary Summary, Review Open Action Items)

• Results of RTCA PMC meeting on publication of interim update DO-294A

• Update from Regulatory Agencies (FAA, UK-CAA, Canadian TSB, FCC, or other)

• Update on Work of EUROCAE Working Group WG58 by Michael Crokaert of Airbus, WG58 Chairman

• CEA PEDs Working Group Report and plans for ANSI accredited standard by Doug Johnson of CEA

• Update on CTIA Task Force on cell phones on airborne aircraft by Paul Guckian of QUALCOMM

• “Active RFID Transponders' RF Emission and Cargo Bay Interference Path Loss Measurements for Aircraft Com/Nave Bands” by Truong Nguyen of NASA Langley Research Center

• “RF Propagation Flight Testing” (report on results from test) by Frank Whetten of Boeing

• Break-out sessions for Working Groups:

• Working Groups (WG) 1 through 5 meet.

• WG-1, PED Characterization

• WG-2, Aircraft Path Loss and Test, with WG-3, Aircraft Susceptibility

• WG-4, Risk Assessment, Mitigation, and process

• WG-5, Airplane Design and Certification Guidance

• Committee Consensus on Remaining Phase 2 Work Plan. TOR Compliance Plan, and Schedule for Completion

• April 5:

• Co-chairs' Strategy Session with Working Group Leaders

• WG Progress and Status Update/Plan for (TOR) Compliance Review

• Overall Review of Plan and Schedule for Phase 2

• Working Groups Coordination

• Time for all Working Groups to meet, if required

• Working Groups Meet if required

• WG-1 PEDs Characterization

• WG-2 Aircraft Path Loss and Test with WG-3, Aircraft Susceptibility

• WG-4 Risk Assessment, Mitigation, and Process

• WG-5 Airplane Design and Certification Guidance

• Chairmen's Strategy Session with Working Group Leaders

• Phase 2 Goals, Schedule, and Work Plan

• April 6:

• Chairmen's Day 2 Opening Remarks and Process Check

• Working Groups report out

• Each Working Group will cover the following:

• Schedule and TOC Compliance Assessment

• Coordination and Requirements, Open Issues, Action Items, etc.

• Phase 2 Work Remaining: work plan and schedule for completion

• Working Group 1 (PEDs Characterization, Test and Evaluation)

• Working Group 2 (Aircraft Test and Analysis)

• Working Group 3 (Aircraft Systems Susceptibility)

• Working Group 4 (Risk Assessment, Practical Application, and Final Documentation)

• Collaboration with EUROCAE WG58

• Working Group 5 (Recommended Guidance for Airplane Design and Certification)

• Feasibility of single document with EUROCAE WG58, committee concensus on how to proceed

• Updates to Phase 2 work statement, committee structure, work plan, and schedule, including:

• Need for additional SC-202 meetings to complete document

• Plan for access to material and organization of data in appendix CD for Phase 2 document

• Working Groups' teleconference and meeting schedule, plan for Phase 2 work completion

• Closing Session (Other Business, Date and Place of Next Meeting (July 10-14, 2006, Fifteenth Plenary at RTCA; October 16-20, 2006, Sixteenth Plenary at RTCA; January 22-26, 2007, Seventeenth Plenary at RTCA, Closing Remarks, Adjourn)

• Break-out sessions for Working Groups Phase 2 work if required and time permits

• April 7:

• Working Groups complete action items as required

• Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 3, 2006.
Francisco Estrada C.,
RTCA Advisory Committee.

[FR Doc. 06-2352 Filed 3-10-06; 8:45 am]

BILLING CODE 4910-13-M